DEPARTMENT OF COMMERCE

National Institute of Standards and Technology

Notice of Inventions Available for Licensing

AGENCY: National Institute of Standards and Technology, Commerce.

ACTION: Notice of inventions available for licensing.

SUMMARY: The inventions listed below are owned in whole or in part by the U.S. Government, as represented by the Secretary of Commerce. The U.S. Government's interest in these inventions is available for licensing in accordance with 35 U.S.C. 207 and 37 CFR part 404 to achieve expeditious commercialization of results of federally funded research and development.

FOR FURTHER INFORMATION CONTACT: Technical and licensing information on these inventions may be obtained by writing to: National Institute of Standards and Technology, Office of Technology Partnerships, Attn: Mary Clague, Building 222, Room A155, Gaithersburg, MD 20899. Information is also available via telephone: 301-975-4188, fax 301-975-3482, or e-mail: mary.clague@nist.gov. Any request for information should include the NIST Docket number and title for the invention as indicated below.

SUPPLEMENTARY INFORMATION: NIST may enter into a Cooperative Research and Development Agreement (“CRADA”) with the licensee to perform further research on the invention for purposes of commercialization. The inventions available for licensing are:

[NIST DOCKET NUMBER: 7-003]

Title: Highly Charged Ion Modified Oxides (HCIMO) for Tunable Resistance.

Abstract: Highly Charged Ion Modified Oxides (HCIMO) are achieved by irradiating a thin, high resistance oxide with highly charged ions (HCIs) and then depositing a conducting material of choice on top the irradiated oxide. The irradiation by HCIs preferentially ablates a region on the order of a cubic nanometer at each HCI's impact site breaking a hole through the ultra-thin oxide. This is demonstrated by preparing an insulating layer of aluminum oxide on a cobalt lower electrode layer, exposing the oxide to very dilute HCI radiation, and then depositing a cobalt upper layer. The data show a clear and systematic decrease in the resistance of the multilayer devices correlated to the HCI dose at very dilute doses. The nanometer dimensions of individual HCI impacts and the precise control over the dose combine to allow high precision selection of the material's resistance over a wide range of values, currently demonstrated over three orders of magnitude. As HCI modification only occurs within a few nanometers of the surface and generally does not affect metals, no special measures are needed to protect surrounding device structures from HCI damage. Since the size of the material modification is determined by the properties of a single ion, precise alignment is not required, only uniform illumination of the device area by the HCI beam, greatly simplifying commercial integration of HCI irradiation.

[NIST DOCKET NUMBER: 7-008]

Title: A Four-Wave Mixing Source of Squeezed Light for Image Processing and Interferometry

Abstract: The invention provides a source of squeezed light, generated using a 4-level, four-wave mixing scheme in rubidium vapor. Strong relative-number squeezing between two beams has been demonstrated; much stronger than previously seen in any four-wave mixing system. The scheme relies on a chi(3) nonlinearity, and a single-pass, no-cavity, experimental implementation which has relaxed phase matching requirements, as compared to chi(2) crystal sources, and easily produces squeezing in multiple spatial modes.

Dated: March 18, 2008.
Richard F. Kayser,
Acting Deputy Director.

[FR Doc. E8-6029 Filed 3-24-08; 8:45 am]

BILLING CODE 3510-13-P